DEPARTMENT OF THE INTERIOR

Bureau of Indian Affairs

Indian Gaming

AGENCY: Bureau of Indian Affairs, Interior.

ACTION: Notice of approved Class III Gaming Compact.

SUMMARY: Under Section 11 of the Indian Gaming Regulatory Act of 1988 (IGRA) Pub. L. 100-497, 25 U.S.C. § 2710, the Secretary of the Interior shall publish in the Federal Register, notice of the approved Tribal-State compacts for the purpose of engaging in Class III gaming activities on Indian lands. The Assistant Secretary—Indian Affairs, Department of the Interior, through her delegated authority, has approved the Tribal-State Compact between the Torres-Martinez Desert Cahuilla Indians, a federally recognized Indian Tribe, and the State of California. The Compact contemplates two gaming facilities, one in Imperial County and one in Riverside County. The Imperial County site would be a 350-machine Gaming Facility. The Compact requires a 5 percent payment of net win from the operation of gaming devices to the State for the exclusive right to operate Class III gaming devices in the State of California, and, as part of the Tribe's commitment to mitigate any significant, adverse impacts resulting from casino development, the Tribe and the State, through Imperial and Riverside County, have agreed to conclude one or more written agreements. All such agreements shall be concluded prior to the commencement of the Project, and shall provide for the identification and implementation of feasible mitigation measures and feasible project alternatives concerning problem and pathological gambling and significant environmental effects.

EFFECTIVE DATE: January 16, 2004.

FOR FURTHER INFORMATION CONTACT: George T. Skibine, Director, Office of Indian Gaming Management, Bureau of Indian Affairs, Washington, DC 20240, (202) 219-4066.

Dated: January 7, 2004.
Aurene M. Martin,
Principal Deputy Assistant Secretary—Indian Affairs.

[FR Doc. 04-1024 Filed 1-15-04; 8:45 am]

BILLING CODE 4310-4N-P